DEPARTMENT OF HEALTH AND HUMAN SERVICES

Health Resources and Services Administration

Maternal and Child Health Federal Set-Aside Program; Welfare Reform and Women's and Children's Health Cooperative Agreement

AGENCY: Health Resources and Services Administration, HHS.

ACTION: Notice of grant award.

SUMMARY: The Maternal and Child Health Bureau (MCHB), Health Resources and Services Administration (HRSA), is awarding $224,000 in fiscal year (FY) 2001 to support a cooperative agreement with the Mailman School of Public Health, Columbia University, in New York, NY. The award was made from funds appropriated under Public Law 106-554 (Departments of Labor, Health and Human Services, and Education and Related Agencies Appropriation Act for FY 2001). The cooperative agreement is authorized by section 501(a)(2) of the Social Security Act, the Maternal and Child Health Federal Set-Aside Program, as a Special Project of Regional and National Significance.

Purpose: The HRSA is providing Federal financial assistance for the “Finding Common Ground” project to allow completion of a pre-existing set of tasks by Columbia University's Mailman School of Public Health. The project is designed to provide an empirical base for assessing the impact of State welfare reform policies, implemented since 1996, on women's and children's health services utilization and health outcomes. These tasks include analysis of data gathered from six national and State data sets and identification of trends in welfare and Medicaid in South Carolina, Texas, and Washington. The project was initiated in 1997 through a cooperative agreement with combined support from the Maternal and Child Health Bureau (MCHB), the Centers for Disease Control and Prevention, and the Office of Population Affairs. This funding expired in 2001.

This award for a new cooperative agreement, sponsored solely by MCHB, ensures that results of the ongoing study are available on a timely basis to provide the empirical foundation to address maternal and child health issues associated with welfare reform. Data will be used to develop training and demonstration projects to inform participants in professional deliberations regarding possible future changes in welfare law.

This “Finding Common Ground” project is the only existing analytical project dedicated to exploring the impact of welfare reform policies on the health status and service utilization of women and children. While other groups are conducting studies on welfare reform, they are primarily focused on the impact on employment, earnings, and income. The project team for this study is uniquely qualified through its combination of expertise and experience in clinical, public health, and social science research to complete the project in cooperation with MCHB.

The administrative and funding instrument used for this program is the cooperative agreement, in which substantial MCHB scientific or programmatic involvement with the awardee is anticipated during performance of the project. Under the cooperative agreement, MCHB supports or stimulates the awardee's activities by working with the awardee in a non-directive, partnership role, but not assuming direction, prime responsibility, or a dominant role in the activity.

Availability of Funds: Approximately $224,000 was made available for obligation to support this project for budget period beginning in FY 2001, extending from September 30, 2001 through August 29, 2002.

Other Award Information: This program is not subject to the provisions of Executive Order 12372, Intergovernmental Review of Federal programs (as implemented by 45 CFR part 100). The Catalog of Federal Domestic Assistance (CFDA) Number is 93.110RA.

FOR FURTHER INFORMATION CONTACT: Russ Scarato, Office of Data and Information Management, Maternal and Child Health Bureau, HRSA, 5600 Fishers Lane, Room 18-44, Rockville, MD 20857, 301-443-0701.

Dated: October 29, 2001.
Elizabeth M. Duke,
Acting Administrator.

[FR Doc. 01-27647 Filed 11-2-01; 8:45 am]

BILLING CODE 4165-15-P